DEPARTMENT OF AGRICULTURE

Farm Service Agency

Risk Management Agency; 2014 Farm Bill Implementation Listening Session; Correction

AGENCY: Farm Service Agency and Risk Management Agency, USDA.

ACTION: Notice; correction.

SUMMARY: The Farm Service Agency (FSA) and the Risk Management Agency (RMA) published a document in the Federal Register of March 14, 2014. FSA and RMA are making a correction to the DATES section for the registration.

FOR FURTHER INFORMATION CONTACT: Robert Stephenson; phone: (202) 720-4019. Persons with disabilities who require alternative means for communication (Braille, large print, audio tape, etc.) should contact the USDA Target Center at (202) 720-2600 (voice and TDD).

SUPPLEMENTARY INFORMATION: FSA and RMA are making a correction to the DATES section in the notice that was published on March 14, 2014 (79 FR 14472-14474). As it was stated later in that notice, the correct registration date is March 25, 2014, as the deadline to register for attending the listening session and to provide oral comments during the listening section.

Correction

In the Federal Register of March 14, 2014, in FR 79 14472-14474, on page 14473, in the first column, correct the DATES section in the “Registration:” to read:

Registration: You must register by March 25, 2014, to attend the listening session and to provide oral comments during the listening session.

Signed on March 18, 2014.
Michael T. Scuse,
Under Secretary, Farm and Foreign Agricultural Services.

[FR Doc. 2014-06393 Filed 3-19-14; 4:15 pm]

BILLING CODE 3410-05-P